FEDERAL RESERVE SYSTEM

Change in Bank Control Notices; Formations of, Acquisitions by, and Mergers of Bank Holding Companies; Correction

This notice corrects a notice (FR Doc. 2012-7210) published on page 17478 of the issue for Monday, March 26, 2012.

Under the Federal Reserve Bank of Richmond heading, the entry for U.S. Immigration Investment Center, LLC, Washington, DC, is revised to read as follows:

A. Federal Reserve Bank of Richmond (Adam M. Drimer, Assistant Vice President) 701 East Byrd Street, Richmond, Virginia 23261-4528:

1. U.S. Immigration Investment Center, LLC, and its sole member, USIIC, LP, both of Washington, DC, and its managing directors, Mahnaz Khazen, Saratoga, California, and Mark Nichols, Washington, DC; to acquire voting shares of HarVest Bancorp, Inc., Gaithersburg, Maryland, and thereby indirectly acquire voting shares of HarVest Bank of Maryland, Rockville, Maryland.

Comments on this application must be received by April 10, 2012.

Board of Governors of the Federal Reserve System, April 4, 2012.
Robert deV. Frierson,
Deputy Secretary of the Board.

[FR Doc. 2012-8481 Filed 4-6-12; 8:45 am]

BILLING CODE 6210-01-P